DEPARTMENT OF HEALTH AND HUMAN SERVICES

Office of the Secretary

Administration for Children and Families

Delegation of Authority

Notice is hereby given that I have delegated to the Assistant Secretary for Children and Families, the following authority vested in the Secretary of Health and Human Services under 45 CFR 95.611(a)(4), pertaining to approval of Federal Financial Participation for the costs of automated data processing affecting multiple programs administered by the Administration for Children and Families (ACF) and the Centers for Medicare and Medicaid Services (CMS).

This delegation of authority applies to the following approval for multi-program State requests for Federal Financial Participation for the costs of automated data processing equipment and services: Requests related to programs under titles IV-B, IV-D and IV-E of the Social Security Act (SSA), administered by ACF; and requests related to programs under titles XIX and XXI of SSA, administered by CMS, when submitted in combination with one or more of the programs under titles IV-B, IV-D and IV-E of the SSA.

The authority may be re-delegated.

These authorities shall be exercised in accordance with established policies, procedures, guidelines and regulations as prescribed by the Secretary.

I hereby affirm and ratify any actions taken by the Assistant Secretary for Children and Families, or his or her subordinates, which involved the exercise of the authorities delegated herein prior to the effective date of this delegation.

This delegation supersedes all existing delegations of these authorities.

This delegation is effective immediately.

Dated: November 8, 2017.
Donald Wright,
Acting Secretary, Department of Health and Human Services.

[FR Doc. 2017-24718 Filed 11-14-17; 8:45 am]

BILLING CODE 4184-40-P